DEPARTMENT OF THE INTERIOR

Fish and Wildlife Service

Notice of Intent to Prepare a Comprehensive Conservation Plan for St. Marks National Wildlife Refuge in Wakulla, Jefferson, and Taylor Counties, Florida

Correction

In notice document 00-10683, beginning on page 24976, in the issue of Friday, April 28, 2000, make the following correction:

On page 24976, in the third column, under the heading ADDRESSES, in the sixth line, “32372” should read “32327”.

[FR Doc. C0-10683 Filed 5-11-00; 8:45 am]

BILLING CODE 1505-01-D

DEPARTMENT OF TRANSPORTATION

Federal Aviation Administration

14 CFR Part 71

[Airspace Docket No. 00-AGL-15]

Proposed Modification of Class D Airspace; Chicago, Aurora Municipal Airport, IL; and Modification of Class E Airspace; Chicago, Aurora Municipal Airport, IL

Correction

In proposed rule document 00-10913 beginning on page 25455 in the issue of Tuesday, May 2, 2000, make the following correction:

§71.1 [Corrected]

On page 25456, in the first column, in §71.1, under AGL IL D Chicago, Aurora Municipal Airport, IL [Revised], in the second line, “(Lat. 41° 46′ 19″N., long. 88° 29′ 32′W.” should read “(Lat. 41° 46′ 19″N., long. 88° 28′ 32″W.”

[FR Doc. C0-10913 Filed 5-11-00; 8:45 am]

BILLING CODE 1505-01-D

DEPARTMENT OF TRANSPORTATION

Federal Aviation Administration

14 CFR Part 71

Proposed Establishment of Class E Airspace; Minneapolis, Flying Cloud Airport, MN

Correction

In proposed rule document 00-8969 beginning on page 19700 in the issue of Wednesday, April 12, 2000, make the following correction:

§71.1 [Corrected]

On page 19701, in the first column, in §71.1, in “AGL MN E2 Minneapolis, Flying Cloud Airport, NM [New]”, “NM [New]” should read “MN [New]”.

[FR Doc. C0-8969 Filed 5-11-00; 8:45 am]

BILLING CODE 1505-01-D